DEPARTMENT OF LABOR

Employment and Training Administration

[TA-W-61,678]

C-Tech Industries; Calumet, MI; Notice of Termination of Investigation

Pursuant to Section 221 of the Trade Act of 1974, as amended, an investigation was initiated on June 13, 2007 in response to a petition filed by a company official on behalf of workers at C-Tech Industries, Calumet, Michigan.

The petitioner has requested that the petition be withdrawn. Consequently, the investigation has been terminated.

Signed in Washington, DC, this 13th day of July 2007.
Linda G. Poole,
Certifying Officer, Division of Trade Adjustment Assistance.

[FR Doc. E7-14224 Filed 7-23-07; 8:45 am]

BILLING CODE 4510-FN-P